DEPARTMENT OF DEFENSE

Department of the Army, Corps of Engineers

Notice of Availability for the Draft Environmental Impact Statement/Environmental Impact Report (DEIS/DEIR) for Proposed Aggregate Terminal Project on Pier D in the Port of Long Beach, Los Angeles County, CA

AGENCY: Department of the Army—U.S. Army Corps of Engineers, DOD.

ACTION: Notice of Availability.

SUMMARY: The U.S. Army Corp of Engineers, Los Angeles District (Regulatory Division), in coordination with the Port of Long Beach (Port), has completed a draft EIS/EIR for the Eagle Rock Aggregates Terminal Project. The proposed project would include the following in-water and land-based elements: dredging, land-based wharf improvements, and the installation of truck scales and conveyor system. Construction duration of the proposed project is estimated at 5 months.

The applicant, Eagle Rock Aggregates, Inc. requires authorization pursuant to Section 10 of the Rivers and Harbors Act in order to conduct dredging activities within waters of the U.S.

Pursuant to the California Environmental Quality Act (CEQA), the Port will serve as the Lead Agency for the preparation of an EIR for its consideration of development approvals within its jurisdiction. The Corps and the Port have agreed to jointly prepare a DEIS/DEIR in order to optimize efficiency and avoid duplication. The DEIS/DEIR is intended to be sufficient in scope to address Federal, State, and local requirements and environmental issues concerning the proposed activities and permit approvals.

SUPPLEMENTARY INFORMATION:

1. Project Site and Background Information

The proposed project site is located at Berth D-44 on Pier D in the Port. The site is currently owned by L.G. Everist, Inc. and would be leased to Eagle Rock Aggregate, Inc. for terminal development and operation. The site, located at 1925 Pier D Street, is bounded by Channel 3 and SSA Matson to the north, G.P. Gypsum to the east, berth D-43 to the west, and Pier D Street to the south. The site was previously used as an aggregate import terminal by Connolly-Pacific Company, which operated the terminal from 2000 until 2009. During this time, the terminal received pre-sorted aggregate that was barged by diesel-powered tugs boats, then off-loaded by conveyor systems, stockpiled, and distributed.

2. Proposed Action

Dredging of Channel 3

In order to prepare the site to accept larger (Panamax-class) aggregate transport vessels, the proposed project would impact approximately 1 acre (490-foot-length by 120-foot-width) of waters of the U.S. within Channel 3 to dredge approximately 6,000 cubic yards of material. The channel bottom within the project area would be deepened from -40 feet Mean Lower Low Water (MLLW) to -46 feet (ft) MLLW over the majority of the dredge footprint, including a 2-foot over-dredge allowance (overdepth). In addition, the proposed project would include advanced maintenance dredging of 2-ft (to -48 feet MLLW) within a 400-foot-long by 20-foot-wide area located immediately adjacent to the berthing area to reduce the necessity for maintenance dredging over the near-term. The applicant has coordinated with the South Coast Dredge Material Management Team/Contaminated Sediments Task Force on disposal options, and has determined the material to be suitable for placement within the Port's Middle Harbor confined disposal facility. The Port has received prior approval for the Middle Harbor project from the Department of the Army (File No. SPL-2004-01053-AOA).

Land-Based Improvements

With the proposed project, land-based wharf improvements would include installing additional steel (stiff) legs for the new wharf structure and conveyor system, driving 28 steel piles to support the stiff legs, and installing the aggregate conveyor system. Additional site improvements would include the installation of truck scales and a pre-fabricated office building. No other site improvements are proposed under this project.

3. Alternatives

Alternatives currently being considered include the following:

(1) Aggregate receiving and storage terminal at berth D-43 utilizing Panamax-class vessels to deliver the aggregate material, including the dredging of approximately 6,000 cubic yards of sediment within Channel 3 (Proposed Project);

(2) Aggregate receiving and storage terminal at berth B-83 utilizing Panamax-class vessels to deliver the aggregate material. No dredging is proposed under this alternative (Alternative Site);

(3) Aggregate receiving and storage terminal at berth D-43 utilizing barges and tug boats to deliver the aggregate material. No dredging is proposed under this alternative (No Federal Action Alternative);

(4) No Project Alternative.

FOR FURTHER INFORMATION CONTACT: Copies of the document are available at http://www.polb.com/ceqa, as well as the following locations:

• Port of Long Beach Harbor Administration Building, 925 Harbor Plaza, Long Beach

• Long Beach City Clerk, 333 W. Ocean Boulevard, Long Beach

• Long Beach Main Library, 101 Pacific Avenue, Long Beach

• San Pedro Regional Branch Library, 931 Gaffey Street, San Pedro

• Wilmington Branch Library, 1300 N. Avalon Boulevard, Wilmington

Questions about the proposed action and DEIS/DEIR can be answered by John W. Markham, Corps Project Manager, at (805) 585-2150. Comments regarding the scope of the DEIS/DEIR shall be addressed to: U.S. Army Corp of Engineers, Los Angeles District, Ventura Field Office, ATTN: File Number SPL-2010-00602-JWM, 2152 Allessandro Drive, Suite 110, Ventura, California 93001. Alternatively, comments can be emailed to john.w.markham@usace.army.mil. Comments may also be sent to Richard D. Cameron, Port of Long Beach, 925 Harbor Plaza, Long Beach, CA 90802 or emailed to cameron@polb.com.

Public Hearing and Comment Period

The U.S Army Corps of Engineers and the Port of Long Beach will jointly hold a public hearing to receive public comments and to assess public concerns regarding the DEIS/EIR and project on August 22, 2012, starting at 6:00 p.m. (doors open at 5:30 p.m.) in the City of Long Beach City Council Chambers in Long Beach, 333 W. Ocean Boulevard, Long Beach, California. Written comments will be accepted until the close of the 45-day public review on September 17, 2012.

Dated: July 23, 2012.
Mark D. Cohen,
Deputy Chief, Regulatory Division, Los Angeles District.

[FR Doc. 2012-18943 Filed 8-2-12; 8:45 am]

BILLING CODE 3720-58-P